DEPARTMENT OF ENERGY

Federal Energy Regulatory Commission

[IC07-2-001, FERC FORM 2]

Commission Information Collection Activities, Proposed Collection; Comment Request; Extension

March 30, 2007.

AGENCY: Federal Energy Regulatory Commission.

ACTION: Notice.

SUMMARY: In compliance with the requirements of section 3507 of the Paperwork Reduction Act of 1995, 44 U.S.C. 3507, the Federal Energy Regulatory Commission (Commission) has submitted the information collection described below to the Office of Management and Budget (OMB) for review and extension of this information collection requirement. Any interested person may file comments directly with OMB and should address a copy of those comments to the Commission as explained below. The Commission received comments from one entity in response to an earlier Federal Register notice of January 8, 2007 (72 FR 764-765) and has provided a response to the commenter in its submission to OMB. Copies of the submission were also submitted to the commenter.

DATES: Comments on the collection of information are due by April May 4, 2007.

ADDRESSES: Address comments on the collection of information to the Office of Management and Budget, Office of Information and Regulatory Affairs, Attention: Federal Energy Regulatory Commission Desk Officer. Comments to OMB should be filed electronically, c/o oira_submission@omb.eop.gov and include the OMB Control No. as a point of reference. The Desk Officer may be reached by telephone at 202-395-4650. A copy of the comments should also be sent to the Federal Energy Regulatory Commission, Office of the Executive Director, ED-34, Attention: Michael Miller, 888 First Street, NE., Washington, DC 20426. Comments may be filed either in paper format or electronically. Those persons filing electronically do not need to make a paper filing. For paper filings an original and 14 copies, of such comments should be submitted to the Secretary of the Commission, Federal Energy Regulatory Commission, 888 First Street, NE., Washington, DC 20426 and should refer to Docket No. IC07-2-001.

Documents filed electronically via the Internet must be prepared in WordPerfect, MS Word, Portable Document Format, or ASCII format. To file the document, access the Commission's Web site at http://www.ferc.gov and click on “Make an E-Filing,” and then follow the instructions for each screen. First time users will have to establish a user name and password. The Commission will send an automatic acknowledgement to the sender's e-mail address upon receipt of comments. User assistance for electronic filings is available at 202-502-8258 or by e-mail to efiling@ferc.gov. Comments should not be submitted to this e-mail address.

All comments may be viewed, printed or downloaded remotely via the Internet through FERC's homepage using the “eLibrary” link. Enter the docket number excluding the last three digits in the docket number field to access the document. For user assistance, contact FERCOnlineSupport@ferc.gov or toll-free at (866) 208-3676, or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC Form 2 “Annual Report for Major Natural Gas Companies”.

2. Sponsor: Federal Energy Regulatory Commission.

3. Control No.: 1902-0028.

The Commission is now requesting that OMB approve and extend the expiration date for an additional three years with no changes to the existing collection. The information filed with the Commission is mandatory.

4. Necessity of the Collection of Information: Submission of the information is necessary for the Commission to carry out its responsibilities in implementing the statutory provisions of the Natural Gas Act (NGA) 15 U.S.C. 717. The FERC Form 2 is a financial and operating report for natural gas rate regulation for major pipeline owners. “Major” is defined as companies having combined gas sold for resale and gas transported or stored for a fee that exceeds 50 million Dth in each of the three previous calendar years. Under the Form 2, the Commission investigates, collects and records data and prescribes rules and regulations concerning accounts, records and memoranda as necessary to administer the NGA. The Commission is empowered to prescribe a system of accounts for jurisdictional gas pipelines and after notice and opportunity for hearing, may determine the accounts in which particular outlays the receipts will be entered, charged or credited.

The Commission's staff uses the data in the continuous review of the financial condition of jurisdictional companies, in various rate proceedings and in the Commission's audit program. FERC Form 2 data are also used to compute annual charges which are necessary to recover the Commission's annual costs. The annual charges are required by section 3401 of the Omnibus Budget Reconciliation Act of 1986.

The NGA mandates the collection of information needed by the Commission to perform its regulatory responsibilities in the setting of just and reasonable rates. The Commission could be held in violation of the NGA if the information was not collected.

The annual financial information filed with the Commission is a mandatory requirement submitted in a prescribed format which is filed electronically. The Commission implements these filing requirements in 18 CFR parts 158, 201, 260.1 and 385.2011.

5. Respondent Description: The respondent universe currently comprises 71 companies (on average) subject to the Commission's jurisdiction.

6. Estimated Burden: 111,470 total hours, 71 respondents (average), 1 response per respondent, and 1,570 hours per response (average).

7. Estimated Cost Burden to respondents: 111,470 hours/2080 hours per years × $122,137 per year = $6,545,486. The cost per respondent is equal to $92,190.

Statutory Authority: Statutory provisions of sections 205(a) and (e) of the Federal Power Act, 16 U.S.C. 824d.

Philis J. Posey,
Acting Secretary.

[FR Doc. E7-6319 Filed 4-4-07; 8:45 am]

BILLING CODE 6717-01-P